DEPARTMENT OF TRANSPORTATION

Federal Aviation Administration

[Summary Notice No. PE-2020-31]

Petition for Exemption; Summary of Petition Received; Airlines for America

Correction

In notice document 2020-11288, appearing on page 31850 in the issue of Wednesday, May 27, 2020 make the following correction.

On page 31850, in the first column, in the DATES section, “June 3, 2024” should read “June 3, 2020”.

[FR Doc. C1-2020-11288 Filed 5-29-20; 4:15 pm]

BILLING CODE 1300-01-D